DEPARTMENT OF ENERGY

Federal Energy Regulatory Commission

[Docket No. CP15-521-000]

Gulf LNG Liquefaction Company, LLC, Gulf LNG Energy, LLC, Gulf LNG Pipeline, LLC; Notice of Availability of the Final Environmental Impact Statement for the Proposed Gulf LNG Liquefaction Project

April 17, 2019.

The staff of the Federal Energy Regulatory Commission (FERC or Commission) has prepared a final environmental impact statement (EIS) for the Gulf LNG Liquefaction Project, proposed by Gulf LNG Liquefaction Company, LLC; Gulf LNG Energy, LLC; and Gulf LNG Pipeline, LLC (GLP) (collectively referred to as Gulf LNG) in the above-referenced docket. Gulf LNG requests authorization pursuant to Section 3(a) of the Natural Gas Act (NGA) to construct and operate onshore liquefied natural gas (LNG) liquefaction and associated facilities to allow export of LNG. Pursuant to Part 157.203 of Commission regulations, Gulf LNG intends to construct, own, operate, and maintain new interconnection and metering facilities for the existing Gulf LNG Pipeline in Jackson County, Mississippi. The proposed actions are referred to as the Gulf LNG Liquefaction Project (Project) and consist of the Gulf LNG Terminal Expansion (Terminal Expansion) and the GLP Pipeline Modifications.

The final EIS assesses the potential environmental effects of construction and operation of the Gulf LNG Liquefaction Project in accordance with the requirements of the National Environmental Policy Act (NEPA). The FERC staff concludes that approval of the proposed Project, with the mitigation measures recommended in the EIS, would have some adverse environmental impacts; however, these impacts would be avoided or reduced to less-than-significant levels.

U.S. Army Corps of Engineers; U.S. Coast Guard; U.S. Department of Energy, Office of Fossil Energy; the U.S. Department of Transportation's Pipeline and Hazardous Materials Safety Administration; U.S. Fish and Wildlife Service; National Oceanic and Atmospheric Administration, National Marine Fisheries Service; and U.S. Environmental Protection Agency participated as cooperating agencies in the preparation of the EIS. In addition, the Mississippi Office of the Secretary of State has jurisdiction over the wetland mitigation property and, therefore, is assisting us as a cooperating agency. Cooperating agencies have jurisdiction by law or special expertise with respect to resources potentially affected by the proposal and participate in the NEPA analysis. Although the cooperating agencies provided input to the conclusions and recommendations presented in the final EIS, the agencies will present their own conclusions and recommendations in their respective Records of Decision for the Project.

The final EIS addresses the potential environmental effects of the construction and operation of the following proposed facilities:

• Feed gas pre-treatment facilities, including a mercury removal system, an acid gas removal system (to remove carbon dioxide and hydrogen sulfide), a molecular sieve dehydration system (to remove water), and a heavy hydrocarbon removal system (to remove natural gas liquids);

• two separate propane precooled mixed refrigerant liquefaction trains that liquefy natural gas, each with a nominal liquefaction capacity of 5 million tonnes per annum (mtpa) and a maximum capacity of more than 5.4 mtpa of LNG;

• liquefaction facility utilities and associated systems, including two gas-fired turbine compressors per liquefaction train;

• storage facilities for condensate, ammonia and refrigerants;

• utilities systems, including instrument, plant air, and nitrogen;

• a truck loading/unloading facility to unload refrigerants and to load condensate produced during the gas liquefaction process;

• four flares (including one spare flare) in a single flare tower to incinerate excess gases associated with maintenance, startup/shutdown, and upset conditions during an emergency;

• two supply docks (North and South Supply Docks) designed to receive barges transporting materials and large equipment during construction, with one dock retained for use during operation;

• new in-tank LNG loading pumps in the existing LNG storage tanks to transfer LNG through the existing transfer lines to LNG marine carriers;

• new spill impoundment systems designed to contain LNG, refrigerants and other hazardous fluids;

• minor changes to piping at the existing berthing facility to permit bi-directional flow;

• a new concrete storm surge protection wall that connects to the existing storm surge protection wall near the southwest corner of the Terminal Expansion site and extends along the southern border of the Terminal Expansion site;

• a new earthen berm extending from the northeastern to the southeastern boundaries of the Terminal Expansion site, between the Terminal Expansion and the Bayou Casotte Dredged Material Management Site, and connecting to the new segments of the storm surge protection wall;

• six off-site construction support areas for use as staging and laydown areas, contractor yards, and parking;

• modifications to the existing metering stations at the existing Gulfstream Pipeline Company and Destin Pipeline Company interconnection facilities; and

• modifications to the existing Gulf LNG Pipeline at the existing Terminal to provide a connection to the inlet of the LNG liquefaction pre-treatment facilities.

The Commission mailed a copy of the Notice of Availability to federal, state, and local government representatives and agencies; elected officials; environmental and public interest groups; Native American tribes; potentially affected landowners and other interested individuals and groups; and newspapers and libraries in the Project area. The final EIS is only available in electronic format. It may be viewed and downloaded from the FERC's website (www.ferc.gov), on the Environmental Documents page (https://www.ferc.gov/industries/gas/enviro/eis.asp). In addition, the final EIS may be accessed by using the eLibrary link on the FERC's website. Click on the eLibrary link (https://www.ferc.gov/docs-filing/elibrary.asp), click on General Search, and enter the docket number in the “Docket Number” field, excluding the last three digits (i.e. CP15-521). Be sure you have selected an appropriate date range. For assistance, please contact FERC Online Support at FercOnlineSupport@ferc.gov or toll free at (866) 208-3676, or for TTY, contact (202) 502-8659.

Additional information about the Project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Kimberly D. Bose,
Secretary.

[FR Doc. 2019-08213 Filed 4-23-19; 8:45 am]

BILLING CODE 6717-01-P